FEDERAL COMMUNICATIONS COMMISSION

[Report No. AUC-05-63-B (Auction No. 63); DA 05-1908]

Auction of Multichannel Video Distribution and Data Service Licenses

AGENCY: Federal Communications Commission.

ACTION: Notice.

SUMMARY: This document extends the comment and reply comment date to allow the public additional time to comment on reserve prices or minimum opening bids and other auction procedures for Auction No. 63.

DATES: Comments are due on or before July 13, 2005 and reply comments are due on or before July 20, 2005.

ADDRESSES: The Wireless Telecommunications Bureau requires that all comments and reply comments must be sent by electronic mail to the following address: auction63@fcc.gov. For further filing instructions see SUPPLEMENTARY INFORMATION.

FOR FURTHER INFORMATION CONTACT: Brian Carter at (202) 418-0660.

SUPPLEMENTARY INFORMATION: On June 9, 2005, the Commission released the Auction No. 63 Comment Public Notice, announcing the auction of 22 Multichannel Video Distribution and Data Service licenses and seeking comments on minimum opening bids and proposed auction procedures. Comments were due on or before June 26, 2005, and reply comments were due on or before July 6, 2005. By this document, the Wireless Telecommunications Bureau extends the deadline for comments to July 13, 2005, and the deadline for reply comments to July 20, 2005.

The electronic mail containing the comments or reply comments must include a subject or caption referring to Auction No. 63 Comments and the name of the commenting party. Parties who file by paper must file an original and four copies of each filing and should be addressed to Federal Communications Commission, Office of the Secretary, 445 12th Street, SW., Washington, DC 20554. Filings may also be sent by hand or messenger delivery, by commercial overnight courier, or by first-class or overnight U.S. Postal Service mail.

Federal Communications Commission.
Gary D. Michaels,
Deputy Chief, Auctions Spectrum and Access Division, WTB.

[FR Doc. 05-13636 Filed 7-8-05; 8:45 am]

BILLING CODE 6712-01-P